FARM CREDIT ADMINISTRATION

Sunshine Act Meeting

AGENCY: Farm Credit Administration

SUMMARY: Notice is hereby given, pursuant to the Government in the Sunshine Act (5 U.S.C. 552b(e)(3)), of the forthcoming regular meeting of the Farm Credit Administration Board (Board).

DATE AND TIME: The regular meeting of the Board will be held at the offices of the Farm Credit Administration in McLean, Virginia, on November 9, 2000, from 9:00 a.m. until such time as the Board concludes its business.

FOR FURTHER INFORMATION CONTACT: Kelly Mikel Williams, Secretary to the Farm Credit Administration Board, (703) 883-4025, TDD (703) 883-4444.

ADDRESSES: Farm Credit Administration, 1501 Farm Credit Drive, McLean, Virginia 22102-5090.

SUPPLEMENTARY INFORMATION: Parts of this meeting of the Board will be open to the public (limited space available), and parts of this meeting will be closed to the public. In order to increase the accessibility to board meetings, persons requiring assistance should make arrangements in advance. The matters to be considered at the meeting are:

Open Session

1. Approval of Minutes

October 12, 2000 (Open and Closed)

2. Report

Report on Corporate Approvals

3. New Business

A. Other

Corporate and Chartering Approvals

B. ACA Restructures

AgChoice Farm Credit, ACA

Carolina Farm Credit, ACA

Central Kentucky Agricultural Credit Association

Farm Credit of Southwest Florida, ACA

Closed Session*

* Session Closed—Exempt pursuant to 5 U.S.C. 552b(c)(8) and (9).

4. Report

OSMO Report

Dated: November 2, 2000.
Kelly Mikel Williams,
Secretary, Farm Credit Administration Board.

[FR Doc. 00-28644 Filed 11-3-00; 2:22 pm]

BILLING CODE 6705-02-M